DEPARTMENT OF TRANSPORTATION

Federal Aviation Administration

14 CFR Part 39

[Docket No. FAA-2011-0360; Directorate Identifier 2010-CE-061-AD]

RIN 2120-AA64

Airworthiness Directives; Univair Aircraft Corporation Models (ERCO) 415-C, 415-CD, 415-D, E, G; (Forney) F-1 and F-1A; (Alon) A-2 and A2-A; and (Mooney) M10 Airplanes

AGENCY: Federal Aviation Administration (FAA), DOT.

ACTION: Notice of proposed rulemaking (NPRM).

SUMMARY: We propose to supersede an existing airworthiness directive (AD) that applies to Univair Aircraft Corporation Models (ERCO) 415-C, 415-CD, 415-D, E, G; (Forney) F-1 and F-1A; (Alon) A-2 and A2-A; and (Mooney) M10 Airplanes. The existing AD currently requires an inspection of the aileron balance assembly and ailerons for cracks and excessive looseness of associated parts with the required repair or replacement of defective parts as necessary. Since we issued that AD, we received a report of a Univair Aircraft Corporation Model ERCO 415-D Ercoupe that crashed after an in-flight breakup due to possible aileron flutter. This proposed AD would add airplanes to the Applicability section and require inspections of the ailerons, inspections of the aileron balance assembly and aileron rigging for looseness or wear with a required repair or replacement of parts as necessary, and a reporting of the inspection results. We are issuing this proposed AD to prevent failure of the aileron assembly and associated parts, which could result in loss of control.

DATES: We must receive comments on this proposed AD by May 31, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Univair Aircraft Corporation, 2500 Himalaya Road, Aurora, Colorado 80011; telephone: 303-375-8882, fax: 303 375-8888; Internet: http://univairparts.com. You may review copies of the referenced service information at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Roger Caldwell, Aerospace Engineer, FAA, Denver Aircraft Certification Office, 26805 East 68th Ave., Room 214, Denver, Colorado 80249-6361; telephone: (303) 342-1086; fax: (303) 342-1088; e-mail: roger.caldwell@faa.gov.

SUPPLEMENTARY INFORMATION:

Comments Invited

We invite you to send any written relevant data, views, or arguments about this proposed AD. Send your comments to an address listed under the ADDRESSES section. Include “Docket No. FAA-2011-0360; Directorate Identifier 2010-CE-061-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued AD 52-02-02 (21 FR 9447, December 4, 1956) for Ercoupe Model 415 Series and Models E and G Airplanes. That AD requires an initial and repetitive inspection of the aileron balance assembly, including the aileron hinges, screws and control system, the ailerons for cracks in support structure and skin, and the repair or replacement of damaged parts. That AD resulted from several Ercoupe accidents. We issued that AD as a precautionary measure.

Actions Since Existing AD Was Issued

Since we issued AD 52-02-02, we received a report of a Univair Aircraft Corporation Model ERCO 415-D Ercoupe that crashed after an in-flight breakup. Witnesses of the accident noted that while the airplane was banking both ailerons were “fluttering” at a high frequency, and as the bank angle of the airplane increased to almost 90 degrees, the left wing of the airplane “folded back” and separated from the fuselage. We have received nine other documented cases of structural failures of the wing and associated components of the airframe.

There are several Univair airplane models that have similar type design to that of above-referenced incidents, are not part of the compliance of AD 52-02-02, and should be subjected to the requirements of AD 52-02-02.

Relevant Service Information

We reviewed Ercoupe Service Memorandum Nos. 35, 56, and 57 (all not dated). The Ercoupe Service Memorandum No. 35 describes procedures for use in rigging or making adjustments to the rigging. The Ercoupe Service Memorandum No. 56 describes procedures for the inspection of control surfaces for cracks and excessive play and checking controls for excessive movement. The Ercoupe Service Memorandum No. 57 describes procedures for aileron balance weight inspection and removal.

FAA's Determination

We are proposing this AD because we evaluated all the relevant information and determined the unsafe condition described previously is likely to exist or develop in other products of the same type design.

Proposed AD Requirements

This proposed AD would add airplanes to the Applicability section of AD 52-02-02 and require inspections of the ailerons, add airplanes to the Applicability section, add repetitive inspections of the aileron bell crank and the ailerons for looseness or wear with a repair or replacement of parts as necessary, and add the requirement to report the inspection results.

Costs of Compliance

We estimate that this proposed AD affects 2,600 airplanes of U.S. registry. We estimate the following costs to comply with the proposed AD:

Labor cost | Parts cost | Total cost per airplane | Total cost on U.S. operators
Estimated Retained Costs
4 work-hours × $85 per hour = $340 | Not applicable | $340 | $884,000
Estimated New Costs
.5 work-hour × $85 per hour = $42.50 | Not applicable | 42.50 | 110,500

We estimate the following costs to do any necessary replacements for the flight control system that would be required based on the results of the proposed inspection. We have no way of determining the number of airplanes that may need this replacement:

On-Condition Costs
Labor cost | Parts cost | Total cost per airplane
2 work-hours × $85 per hour = $170 | Aileron Hinge Part Number (P/N) 415-24003 $25 | $195
2 work-hours × $85 per hour = $170 | Elevator Hinge P/N 415-22007 $40 | 210
2 work-hours × $85 per hour = $170 | Elevator Hinge P/N 415-22008 $83 | 253
2 work-hours × $85 per hour = $170 | Rudder Hinge P/N 415-24003 $25 | 195
2 work-hours × $85 per hour = $170 | Aileron Rod-End Bearing P/N GMM-3M-670 $20 | 190

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

The Proposed Amendment

Accordingly, under the authority delegated to me by the Administrator, the FAA proposes to amend 14 CFR part 39 as follows:

PART 39—AIRWORTHINESS DIRECTIVES

The authority citation for part 39 continues to read as follows:

Authority: 49 U.S.C. 106(g), 40113, 44701.

§ 39.13 [Amended]

The FAA amends § 39.13 by removing airworthiness directive (AD) 52-02-02, (21 FR 9447, December 4, 1956), and adding the following new AD:

Univair Aircraft Corporation: Docket No. FAA-2011-0360; Directorate Identifier 2010-CE-061-AD.

Comments Due Date

(a) The FAA must receive comments on this proposed AD action by May 31, 2011.

Affected ADs

(b) This AD supersedes AD 52-02-02 (21 FR 9447, December 4, 1956).

Applicability

(c) This AD applies to Univair Aircraft Corporation Models (ERCO) 415-C, 415-CD, 415-D, E, G; (Forney) F-1 and F-1A; (Alon) A-2 and A2-A; and (Mooney) M10 airplanes, all serial numbers, that are certificated in any category.

Subject

(d) Joint Aircraft System Component (JASC)/Air Transport Association (ATA) of America Code 27, Flight Controls.

Unsafe Condition

(e) This AD was prompted by a Univair Aircraft Corporation Model ERCO 415-D Ercoupe that crashed after an in-flight breakup due to possible aileron flutter. We are issuing this AD to add airplanes to the Applicability section and require inspections of the ailerons, inspections of the aileron balance assembly and aileron rigging for looseness or wear with a required repair or replacement of parts as necessary, and a reporting of the inspection results.

Compliance

(f) Comply with this AD within the compliance times specified, unless already done.

Actions | Compliance | Procedures
(1) For all airplanes: Inspect the ailerons for cracks in the support structure and skin. | (i) Within the next 25 hours time-in-service (TIS) after the effective date of this AD or within 3 months after the effective date of this AD, whichever occurs first. Repetitively thereafter inspect at intervals not to exceed 100 hours TIS or 12 months, whichever occurs first. | Follow Ercoupe Service Memorandums No. 56 and 57 (both not dated).
| (ii) We will allow “unless already done” credit for inspections done within the last 25 hours TIS before the effective date of this AD or within the last 3 months before the effective date of this AD, and you may use the results from that inspection for the reporting requirement in paragraph (f)(10) of this AD.
(2) For airplanes with the aileron balance assembly (ERCO Part Number (P/N) 415-16009) installed: Inspect the assembly for cracks in the support structure and skin. | (i) Within the next 25 hours TIS after the effective date of this AD or within 3 months after the effective date of this AD, whichever occurs first. Repetitively thereafter inspect at intervals not to exceed 100 hours TIS or 12 months, whichever occurs first. | Follow Ercoupe Service Memorandums No. 56 and 57 (both not dated).
| (ii) We will allow “unless already done” credit for inspections done within the last 25 hours TIS before the effective date of this AD or within the last 3 months before the effective date of this AD, and you may use the results from that inspection for the reporting requirement in paragraph (f)(10) of this AD.
(3) If any cracking is found during the inspections required in paragraphs (f)(1) and/or (f)(2) of this AD, repair or replace cracked parts. | Before further flight after the inspection where the cracking was found. | Follow Ercoupe Service Memorandums No. 56 and 57 (both not dated).
(4) For airplanes with the aileron balance assembly (ERCO P/N 415-16009) installed: Inspect the four No. 6-32 screws that attach the balance weight support to the aileron for looseness and damage. | (i) Within the next 25 hours TIS after the effective date of this AD or within 3 months after the effective date of this AD, whichever occurs first. Repetitively thereafter inspect at intervals not to exceed 100 hours TIS or 12 months, whichever occurs first. | Follow Ercoupe Service Memorandums No. 56 and 57 (both not dated).
| (ii) We will allow “unless already done” credit for inspections done within the last 25 hours TIS before the effective date of this AD or within the last 3 months before the effective date of this AD, and you may use the results from that inspection for the reporting requirement in paragraph (f)(10) of this AD.
(5) If any looseness or damage is found during the inspection of the screws required in paragraph (f)(4) of this AD, replace the screws with AN 526-632 screws, making sure to not overstress during tightening. | Before further flight after the inspection where the looseness or damage was found. | Follow Ercoupe Service Memorandums No. 56 and 57 (both not dated).
(6) For airplanes with the aileron balance assembly (ERCO P/N 415-16009) installed: Inspect the aileron hinges and aileron control system for excessive looseness or wear in hinge pins or bearings. If, with one aileron blocked in the neutral position, the total play of the other aileron, measured at the trailing edge, exceeds 7/16 inch, inspect all the joints and bearings and tighten or replace those which are loose. | (i) Within the next 25 hours TIS after the effective date of this AD or within 3 months after the effective date of this AD, whichever occurs first. Repetitively thereafter inspect at intervals not to exceed 100 hours TIS or 12 months, whichever occurs first. (ii) We will allow “unless already done” credit for inspections done within the last 25 hours TIS after the effective date of this AD or within the last 3 months before the effective date of this AD, and you may use the results from that inspection for the reporting requirement in paragraph (f)(10) of this AD. | Follow Ercoupe Service Memorandums No. 56 and 57 (both not dated).
(7) For airplanes that have never had the aileron balance assembly (ERCO P/N 415-16009) installed or from which it has been removed following Ercoupe Service Memorandum No. 57: Inspect the aileron hinges and aileron control system for excessive looseness or wear in hinge pins or bearings. If, with one aileron blocked in the neutral position the total play of the other aileron, measured at the trailing edge, exceeds 5/16 inch, inspect all the joints and bearings and tighten those which are loose. | Within the next 25 hours TIS after the effective date of this AD or within 3 months after the effective date of this AD, whichever occurs first. | Follow Ercoupe Service Memorandums No. 56 and 57 (both not dated).
(8) For all airplanes: Determine that the air speed instrument is correctly calibrated and distinctly marked in accordance with the operating limitations. | Within the next 25 hours TIS after the effective date of this AD or within 3 months after the effective date of this AD, whichever occurs first. | Follow FAA Advisory Circular (AC) 23-8B, Appendix 9, Airspeed Calibrations, dated August 14, 2003, or any other FAA-approved airspeed calibration method. AC 23-8B can be found at http://rgl.faa.gov/.
(9) For all airplanes: Remove load from nose wheel and adjust rigging. | Within the next 25 hours TIS after the effective date of this AD or within 3 months after the effective date of this AD, whichever occurs first. Repetitively thereafter inspect at intervals not to exceed 100 hours TIS or 12 months, whichever occurs first. | Follow Ercoupe Service Memorandum No. 35 (not dated).
(10) For all airplanes: Report the results from the inspections and/or actions required in paragraphs (f)(1), (f)(2), (f)(4), (f)(6), (f)(7), (f)(8), and (f)(9) of this AD. | Within 3 days after the initial inspections and/or actions required in paragraphs (f)(1), (f)(2), (f)(4), (f)(6), (f)(7), (f)(8), and (f)(9) of this AD or within 3 days after the next repetitive inspection and/or action required in paragraphs (f)(1), (f)(2), (f)(4), (f)(6), and (f)(9), whichever occurs first. | Use the reporting form found in figure 1 and send the report to the following offices: (i) Roger A. Caldwell, Aerospace Engineer, FAA, ANM-100D, Denver Aircraft Certification Office (ACO), 26805 East 68th Avenue, Room 214, Denver, Colorado 80249-6361; and (ii) Univair Aircraft Corporation, 2500 Himalaya Road, Aurora, Colorado 80011.

Docket No. FAA-2011-0360 Inspection Report
Airplane model and year of manufacture |
Airplane serial number |
Airplane registration |
Airplane tachometer hours at time of inspection |
Airspeed calibrated and marked per paragraph (f)(8) of this AD? | YES, but no calibration adjustment required. | YES, and calibration was adjusted.

For Ercoupe Service Memorandum No. 56
Did aileron system play exceed 7/16 of an inch? | NO | YES, and was adjusted.
Was rudder looseness greater than ¼ of an inch at the trailing edge? | NO | YES, and was adjusted.
Was there elevator motion greater than ⅜ of an inch? | NO | YES, and was adjusted.
Were any other discrepancies noticed during this inspection, to include cracks or loose hinges? |
For Ercoupe Service Memorandum No. 57
Does the airplane have aileron balance weights? | NO | YES
If balance weights are installed, were the attachments secure? | NO | YES | Not applicable.
Did you remove the balance weights if allowed? | NO | YES | Not applicable.
If you did not remove balance weights, did you perform Ercoupe Service Memorandum No. 20 (Ailerons-Reinforcement of) | NO | YES | Not applicable.
If balance weights were removed, was the aileron free play 5/16 of an inch or less? | NO | YES | Not applicable.
Were any other discrepancies noticed during this inspection? |
For Ercoupe Service Memorandum No. 35
Did you perform steps 1, 2, and 7 of the Ercoupe Service Memorandum No. 35? | NO | YES
Were any other discrepancies noticed during this inspection? |
Send report to: Roger A. Caldwell, Aerospace Engineer, FAA, ANM-100D, Denver ACO,
26805 East 68th Avenue, Room 214, Denver, Colorado 80249-6361;
fax: (303) 342-1088; E-mail: roger.caldwell@faa.gov; and
Univair Aircraft Corporation, 2500 Himalaya Road, Aurora, Colorado 80011
Figure 1

Paperwork Reduction Act Burden Statement

(g) A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Alternative Methods of Compliance (AMOCs)

(h)(1) The Manager, Denver ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

(3) AMOCs approved for AD 52-02-02 are approved as AMOCs for this AD.

Related Information

(i) For more information about this AD, contact Roger Caldwell, Aerospace Engineer, FAA, Denver ACO, 26805 East 68th Ave., Room 214, Denver, Colorado 80249-6361; telephone: (303) 342-1086; fax: (303) 342-1088; e-mail: roger.caldwell@faa.gov.

(j) For service information identified in this AD, contact Univair Aircraft Corporation, 2500 Himalaya Road, Aurora, Colorado 80011; telephone: (303) 375-8882, facsimile: (303) 375-8888; Internet: http://univairparts.com. You may review copies of the referenced service information at the FAA, Small Airplane Directorate, 901 Locust St., Kansas City, MO 64106. For information on the availability of this material at the FAA, call (816) 329-4148.

Issued in Kansas City, Missouri, on April 7, 2011.
Earl Lawrence,
Manager, Small Airplane Directorate, Aircraft Certification Service.

[FR Doc. 2011-9091 Filed 4-13-11; 8:45 am]

BILLING CODE 4910-13-P